SECURITIES AND EXCHANGE COMMISSION

17 CFR Part 240

[Release No. 34-87005A; File No. S7-05-14]

RIN 3235-AL45

Recordkeeping and Reporting Requirements for Security-Based Swap Dealers, Major Security-Based Swap Participants, and Broker-Dealers; Correction

AGENCY: Securities and Exchange Commission.

ACTION: Correcting amendment.

SUMMARY: On December 16, 2019, the Securities and Exchange Commission revised Commission rules. That document inadvertently listed an incorrect subordinate paragraph in a cross-reference to a rule. This document corrects the final regulations.

DATES: Effective on June 1, 2020.

FOR FURTHER INFORMATION CONTACT: Sheila Dombal Swartz, Senior Special Counsel, at (202) 551-5545; Division of Trading and Markets, Securities and Exchange Commission, 100 F Street NE, Washington, DC 20549-7010.

SUPPLEMENTARY INFORMATION: The Commission is making a correcting amendment to 17 CFR 240.18a-6 (Rule 18a-6) under the Securities Exchange Act of 1934 (“Exchange Act”), published on December 16, 2019 [84 FR 68550] and adopted in Exchange Act Release No. 87005 (September 19, 2019).

List of Subjects in 17 CFR Part 240

Brokers, Confidential business information, Fraud, Reporting and recordkeeping requirements, Securities.

Accordingly, 17 CFR part 240 is corrected by making the following correcting amendments:

PART 240—GENERAL RULES AND REGULATIONS, SECURITIES EXCHANGE ACT OF 1934

1. The general authority citation for part 240 continues to read as follows:

Authority: 15 U.S.C. 77c, 77d, 77g, 77j, 77s, 77z-2, 77z-3, 77eee, 77ggg, 77nnn, 77sss, 77ttt, 78c, 78c-3, 78c-5, 78d, 78e, 78f, 78g, 78i, 78j, 78j-1, 78k, 78k-1, 78l, 78m, 78n, 78n-1, 78o, 78o-4, 78o-10, 78p, 78q, 78q-1, 78s, 78u-5, 78w, 78x, 78dd, 78ll, 78mm, 80a-20, 80a-23, 80a-29, 80a-37, 80b- 3, 80b-4, 80b-11, and 7201 et seq., and 8302; 7 U.S.C. 2(c)(2)(E); 12 U.S.C. 5221(e)(3); 18 U.S.C. 1350; Pub. L. 111-203, 939A, 124 Stat. 1376 (2010); and Pub. L. 112-106, sec. 503 and 602, 126 Stat. 326 (2012), unless otherwise noted.

* * * * *

2. In § 240.18a-6, revise paragraph (b)(1)(x) to read as follows:

§ 240.18a-6 Records to be preserved by certain security-based swap dealers and major security-based swap participants.

* * * * *

(b)(1) * * *

(x) The records required to be made pursuant to § 240.18a-1(e)(2)(iii)(F)(1) and (2).

* * * * *

Dated: May 6, 2020.
Vanessa A. Countryman,
Secretary.

[FR Doc. 2020-10016 Filed 5-29-20; 8:45 am]

BILLING CODE 8011-01-P